COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List products and a service to be furnished by nonprofit agencies employing persons who are blind or have other severe disabilities.

DATES: Effective Date: 3/15/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 12/11/2009 (74 FR 65758) and 12/18/2009 (74 FR 67176-77), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

NSN: 8415-01-548-7187—Advanced Combat Shirt, Size: XS-R.

NSN: 8415-01-548-7201—Advanced Combat Shirt, Size: SM-R.

NSN: 8415-01-548-7206—Advanced Combat Shirt, Size: M-R.

NSN: 8415-01-548-7209—Advanced Combat Shirt, Size: L-R.

NSN: 8415-01-548-7215—Advanced Combat Shirt, Size: XX-Large.

NSN: 8415-01-548-7232—Advanced Combat Shirt, Size: XL-R.

NSN: 8415-01-548-7236—Advanced Combat Shirt, Size: XXXL-R.

NPA: Goodwill Industries of South Florida, Inc., Miami, FL.

NPA: Southeastern Kentucky Rehabilitation Industries, Inc., Corbin, KY.

NPA: Winston-Salem Industries for the Blind, Winston-Salem, NC.

NPA: San Antonio Lighthouse for the Blind, San Antonio, TX.

NPA: New York City Industries for the Blind, Brooklyn, NY.

NPA: Mount Rogers Community Services Board, Atkins, VA.

Contracting Activity: DEPT OF THE ARMY, XR W2DF RDECOM ACQ CTR NATICK, MA.

Coverage: C-List for 63% of the requirements of the US Army Research, Development, and Engineering Command (RDECOM), Natick, MA.

Service

Service Type/Location: Grounds & Custodial Services, U.S. Army Headquarters 6th Recruiting Brigade, 4539 N. 5th Street, North Las Vegas, NV.

NPA: Opportunity Village Association for Retarded Citizens, Las Vegas, NV.

Contracting Activity: Dept of the Air Force, FA4861 99 CONS LGC, Nellis AFB, NV.

Barry S. Lineback,
Director, Business Operations.

[FR Doc. 2010-2997 Filed 2-11-10; 8:45 am]

BILLING CODE 6353-01-P